DEPARTMENT OF VETERANS AFFAIRS

Privacy Act of 1974: Matching Program

AGENCY: Department of Veterans Affairs.

ACTION: Notice of a New Computer Matching Program.

SUMMARY: Notice is hereby given that the Department of Veterans Affairs (VA) intends to conduct a recurring computer matching program. This will match personnel records of the Department of Defense (DoD) with VA records of benefit recipients under the Montgomery GI Bill—Active Duty, Montgomery GI Bill—Selected Reserve, and the Post-9/11 GI Bill. The goal of these matches is to identify the eligibility status of Veterans, servicemembers, and reservists who have applied for or who are receiving education benefit payments under the Montgomery GI Bill—Active Duty, Montgomery GI Bill—Selected Reserve, and the Post-9/11 GI Bill. The purpose of the match is to enable VA to verify that individuals meet the conditions of military service and eligibility criteria for payment of benefits determined by VA under the Montgomery GI Bill—Active Duty, Montgomery GI Bill—Selected Reserve, and Post-9/11 GI Bill.

DATES: Comments on this match must be received no later than 30 days after date of publication in the Federal Register. If no public comment is received during the period allowed for comment or unless otherwise published in the Federal Register by VA, the new agreement will become effective a minimum of 30 days after date of publication in the Federal Register. If VA receives public comments, VA shall review the comments to determine whether any changes to the notice are necessary. This matching program will be valid for 18 months from the effective date of this notice.

ADDRESSES: Comments may be submitted through www.Regulations.gov or mailed to VA Privacy Service, 810 Vermont Avenue NW, (005R1A), Washington, DC 20420. Comments should indicate that they are submitted in response to CMA VBA/DoD MGIB and Post 9/11 and SORN 58VA21/22/28. Comments received will be available at regulations.gov for public viewing, inspection or copies.

FOR FURTHER INFORMATION CONTACT: Eric Patterson, Legislative Strategy, Development and Implementation Chief, Education Service, Veterans Benefits Administration, Department of Veterans Affairs, 810 Vermont Avenue NW, Washington, DC 20420, (202) 461-9830.

SUPPLEMENTARY INFORMATION: The authority to conduct this match is found in 38 U.S.C. 3684A(a)(1). The records covered include eligibility records extracted from DoD personnel files and benefit records that VA establishes for all individuals who have applied for and/or are receiving, or have received education benefit payments under the Montgomery GI Bill—Active Duty, Montgomery GI Bill—Selected Reserve, and the Post-9/11 GI Bill. These benefit records are contained in a VA system of records identified as 58VA21/22/28 entitled: Compensation, Pension, Education, and Vocational Rehabilitation and Employment Records—VA, first published in the Federal Register at 41 FR 9294 (March 3, 1976), and last amended at 84 FR 61858 (Nov. 8, 2021), with other amendments as cited therein.

This information is required by paragraph 6c of the “Guidelines on the Conduct of Matching Programs” issued by OMB (54 FR 25818), as amended by OMB Circular A-130, 65 FR 77677 (2000), interpreting the provisions of the Privacy Act pertaining to computer matching, as well as those computer matching portions of a revision of OMB Circular No. A-108, Federal Responsibilities for Review, Reporting, and Publication under the Privacy Act (December 23, 2016). The current matching agreement with the Department of Defense (DoD) expires May 25, 2023. The legal authority to conduct this match is 38 U.S.C. 5106, which requires any Federal department or agency to provide VA such information as VA requests for the purposes of determining eligibility for benefits, or verifying other information with respect to payment of benefits. A copy of the notice has been provided to both Houses of Congress and OMB. The matching program is subject to their review.

Participating Agencies: This computer match is between the Department of Veterans Affairs (VA) and the Department of Defense (DoD).

Authority For Conducting the Matching Program: The authority to conduct this match is the Privacy Act, 5 U.S.C. 552a and 38 U.S.C. 3684A(a)(1).

Purpose(s): This agreement establishes the conditions under which the Department of Defense (DoD) agrees to disclose information regarding eligibility to education benefits under the Montgomery GI Bill, Montgomery GI Bill—Selected Reserve and the Post-9/11 GI Bill to the Department of Veterans Affairs (VA). The purpose of this computer matching program between VA and DoD is to verify that individuals meet the conditions of military service and eligibility criteria for payment of benefits determined by VA under three enacted programs.

Categories of Individuals: Veterans, Servicemembers, Reservists and Dependents.

Categories of Records: Department of Defense (DoD), as the source agency, will provide to VA the eligibility records on DoD individuals consisting of data elements which contains specific data relating to the requirements for eligibility including data on member contribution amounts, service periods, and transfer of entitlement. VA will match on attributes, including Social Security Number (SSN), DoD Electronic Data Interchange Personal Identifier (EDIPI—or VA_ID), Date-of-Birth, Last Name, and File Identification Number.

System(s) of Records: These benefit records are contained in a VA system of records identified as 58VA21/22/28 entitled: Compensation, Pension, Education, and Vocational Rehabilitation and Employment Records—VA, first published in the Federal Register at 41 FR 9294 (March 3, 1976), and last amended at 84 FR 61858 (Nov. 8, 2021) and DoD updated their Defense Enrollment Eligibility Reporting Systems (DEERS) in the Federal Register at 84 FR 55293 on October 16, 2019 and corrected at 84 FR 65975 on December 2, 2019.) with other amendments as cited therein.

Signing Authority

The Senior Agency Official for Privacy, or designee, approved this document and authorized the undersigned to sign and submit the document to the Office of the Federal Register for publication electronically as an official document of the Department of Veterans Affairs. John Oswalt, Chief Privacy Officer and Chair of the Data Integrity Board, Department of Veterans Affairs approved this document on June 26, 2023 for publication.

Dated: June 29, 2023.
Amy L. Rose,
Government Information Specialist, VA Privacy Service, Office of Compliance, Risk and Remediation, Office of Information and Technology, Department of Veterans Affairs.

[FR Doc. 2023-14194 Filed 7-6-23; 8:45 am]

BILLING CODE 8320-01-P